DEPARTMENT OF DEFENSE

Office of the Secretary

Submission for OMB Review; Comment Request

AGENCY: Department of Defense.

ACTION: Notice.

The Department of Defense has submitted to OMB for clearance, the following proposal for collection of information under the provisions of the Paperwork Reduction Act (44 U.S.C. chapter 35).

DATES: Consideration will be given to all comments received by March 8, 2004.

Title, Form and OMB Number: Department of Defense Education Activity (DoDEA) High School Longitudinal Study; OMB Number [to be determined].

Type of Request: New collection.

Number of Respondents: 1,626.

Responses per Respondent: 1.

Annual Responses: 1,626.

Average Burden per Response: 15 minutes.

Annual Burden Hours: 407.

Needs and Uses: The Department of Defense Education Activity (DoDEA) operates 224 public schools in 21 districts located in 14 foreign countries, seven states, Guam, and Puerto Rico. To evaluate the Quality High School Initiative developed at the DoDEA High School Symposium in October 2001, contact with DoDEA high school students and their sponsors who have left DoDEA high schools is necessary. Sponsors and students in grades 9 through 12 who leave DoDEA high schools for any reason (including permanent change of station and graduation) will be contacted three to five months after leaving DoDEA schools and then again one year later using a telephonic survey. The collected data will be used to determine if quality educational programs are provided to all DoDEA high school students, regardless of where their sponsors are stationed. There is no existing data that is sufficiently comprehensive to meet the need for this information requirement.

Affected Public: Individuals or households.

Frequency: On occasion.

Respondent's obligation: Voluntary.

OMB Desk Officer: Ms. Jacqueline Zeiher. Written comments and recommendations on the proposed information collection should be sent to Ms. Zeiher at the Office of Management and Budget, Desk Officer for DoD, Room 10236, New Executive Office Building, Washington, DC 20503.

DOD Clearance Officer: Ms. Jacqueline Davis. Written requests for copies of the information collection proposal should be sent to Ms. Davis, WHS/DIOR, 1215 Jefferson Davis Highway, Suite 1204, Arlington, VA 22202-4302.

Dated: January 30, 2004.
Patricia L. Toppings,
Alternate OSD Federal Register Liaison Officer, Department of Defense.

[FR Doc. 04-2539 Filed 2-5-04; 8:45 am]

BILLING CODE 5001-06-M